DEPARTMENT OF HOMELAND SECURITY

National Protection and Programs Directorate; Submission for Review: Critical Infrastructure and Key Resources Asset Protection Technical Assistance Program (CAPTAP) Train the Trainer Survey 1670—NEW

AGENCY: National Protection and Programs Directorate, Infrastructure Protection, DHS.

ACTION: 30-Day Notice and request for comments.

SUMMARY: The Department of Homeland Security (DHS) invites the general public and other federal agencies to comment on new information collection request 1670—NEW, CAPTAP Train the Trainer Survey. As required by the Paperwork Reduction Act of 1995, (Pub. L. 104-13, 44 U.S.C. chapter 35) as amended by the Clinger-Cohen Act (Pub. L. 104-106), DHS is soliciting comments for this collection. The information collection was previously published in the Federal Register on August 1, 2008 at 73 FR 45025 allowing for a 60-day public comment period. No comments were received on this existing information collection. The purpose of this notice is to allow an additional 30 days for public comments.

DATES: Comments are encouraged and will be accepted until February 13, 2009. This process is conducted in accordance with 5 CFR 1320.1.

ADDRESSES: Interested persons are invited to submit written comments on the proposed information collection to the Office of Information and Regulatory Affairs, Office of Management and Budget, 725 17th Street, NW., Washington, DC 20503, Attention: Desk Officer for National Protection and Programs Directorate, DHS or sent via electronic mail to oira_submission@omb.eop.gov or faxed to (202) 395-6974.

FOR FURTHER INFORMATION CONTACT: A copy of this ICR, with applicable supporting documentation, may be obtained by contacting the Office of Information and Regulatory Affairs, Office of Management and Budget, 725 17th Street, NW., Washington, DC 20503, Attention: Desk Officer for National Protection and Programs Directorate, DHS or via electronic mail to oira_submission@omb.eop.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Infrastructure Protection.

Title: CAPTAP Train the Trainer Survey.

OMB Number: 1670—NEW.

Frequency: Once.

Affected Public: State, Local, Tribal.

Number of Respondents: 150.

Estimated Time per Respondent: 12 minutes.

Total Burden Hours: 30 hours.

Total Burden Cost (capital/startup): None.

Total Burden Cost (operating/maintaining): None.

Description: The C/ACAMS program uses the CAPTAP Train the Trainer survey to assess participant satisfaction with the training. The survey supports decision-making by identifying actionable training data to reallocate resources to address it. The Train the Trainer survey collects data about participants' satisfaction with the instructors, materials, course curriculum, activities and applicability to effect cost savings by prioritizing training improvements.

Dated: November 6, 2008.
Chase Garwood,
Chief Information Officer, National Protection and Programs Directorate Department of Homeland Security.

[FR Doc. E9-570 Filed 1-13-09; 8:45 am]

BILLING CODE 4410-10-P